DEPARTMENT OF ENERGY

Federal Energy Regulatory Commission

[Docket Nos. ER00-298-000, ER00-298-001 and EL00-41-000]

PJM Interconnection, L.L.C.; Notice of Initiation of Proceeding and Refund Effective Date

February 11, 2000.

Take notice that on February 10, 2000, the Commission issued an order in the above-referenced dockets initiating an investigation in Docket No. EL00-41-000 under section 206 of the Federal Power Act.

The refund effective date in Docket No. EL00-41-000, established pursuant to section 206(b) of the Federal Power Act, will be 60 days following publication of this notice in the Federal Register.

Linwood A. Watson, Jr.,
Acting Secretary.

[FR Doc. 00-3770 Filed 2-16-00; 8:45 am]

BILLING CODE 6717-01-M